SECURITIES AND EXCHANGE COMMISSION

Proposed Collection; Comment Request

Upon Written Request, Copies Available From: Securities and Exchange Commission, Office of Investor Education and Advocacy, Washington, DC 20549-0213.

Extension:

Rule 15Bc3-1 and Form MSD; SEC File No. 270-93; OMB Control No. 3235-0087.

Notice is hereby given that, pursuant to the Paperwork Reduction Act of 1995 (44 U.S.C. 3501 et seq.), the Securities and Exchange Commission (“Commission”) is soliciting comments on the collection of information summarized below. The Commission plans to submit this collection of information to the Office of Management and Budget for extension and approval.

Rule 15Bc3-1 (17 CFR 15Bc3-1) under the Securities Exchange Act of 1934 (17 U.S.C. 78a et seq.) provides that a notice of withdrawal from registration with the Commission as a bank municipal securities dealer must be filed on Form MSDW (17 CFR 249.1110).

The Commission uses the information submitted on Form MSDW in determining whether it is in the public interest to permit a bank municipal securities dealer to withdraw its registration. This information is also important to the municipal securities dealer's customers and to the public, because it provides, among other things, the name and address of a person to contact regarding any of the municipal securities dealer's unfinished business.

The staff estimates that the average number of hours necessary for each respondent to comply with the requirements of Rule 15Bc3-1 is 0.5 hours. Based upon the average number of submissions for the past three years, the staff estimates that approximately 12 respondents in total will utilize this notice procedure annually, with a total burden of 6 hours for all respondents. The average cost per hour is approximately $101. Therefore, the total cost of compliance for all respondents is $606 ($101 × 0.5 × 12 = $606).

Written comments are invited on: (a) Whether the proposed collection of information is necessary for the proper performance of the functions of the Commission, including whether the information will have practical utility; (b) the accuracy of the Commission's estimate of the burden of the collection of information; (c) ways to enhance the quality, utility, and clarity of the information to be collected; and (d) ways to minimize the burden of the collection of information on respondents, including through the use of automated collection techniques or other forms of information technology. Consideration will be given to comments and suggestions submitted in writing within 60 days of this publication.

Please direct your written comments to: Charles Boucher, Director/Chief Information Officer, Securities and Exchange Commission, c/o Shirley Martinson, 6432 General Green Way, Alexandria, Virginia 22312 or send an e-mail to: PRA_Mailbox@sec.gov.

Dated: June 14, 2010.
Florence E. Harmon,
Deputy Secretary.

[FR Doc. 2010-15135 Filed 6-22-10; 8:45 am]

BILLING CODE 8010-01-P